GENERAL SERVICES ADMINISTRATION

[Notice-MA-2020-09; Docket No. 2020-0002; Sequence No. 25]

Notice of GSA Bulletin FMR B-51 and Supersession of GSA Bulletin FMR B-27

AGENCY: Office of Government-wide Policy (OGP), General Services Administration (GSA).

ACTION: Notice of GSA Bulletin FMR B-51, Annual Executive Agency Reports on Exchange/Sale and Personal Property Furnished to Non-Federal Recipients, Supersession and Cancellation of GSA Bulletin FMR B-27.

SUMMARY: GSA is updating guidance on the Non-Federal Recipients Report and Exchange/Sale Report. This bulletin supersedes and cancels GSA Bulletin FMR B-27, “Annual Executive Agency Reports on Excess and Exchange/Sale Personal Property,” issued on July 22, 2010, as this bulletin provides updated information on the same topic. See the Supplementary Information section below for additional information.

DATES: Applicability Date: December 7, 2020.

FOR FURTHER INFORMATION CONTACT: For clarification of content, contact Mr. William Garrett, Director, Personal Property Policy, Office of Government-wide Policy, Office of Asset and Transportation Management, at 202-368-8163, or by email at william.garrett@gsa.gov. Please cite Notice of GSA Bulletin FMR B-51.

SUPPLEMENTARY INFORMATION:

Background

GSA has Governmentwide oversight and management responsibilities for the Exchange/Sale and Non-Federal Recipient Reports. GSA's responsibilities include issuing appropriate regulations and monitoring agency adherence to the regulations through these reports.

On December 20, 2019, GAO publicly released its report GAO-20-101, “FEDERAL PROPERTY: Improved Monitoring, Oversight, and Data Would Help Understand Effects of Providing Property to Non-Federal Recipients.” The report recommended that “the GSA Administrator should direct the Office of Government-wide Policy to document in what circumstances excess property loaned to non-federal recipients should be reported and what property GSA is reporting on behalf of agencies, for example, by updating GSA guidance.” To address this recommendation, this bulletin is being issued to clarify the requirements to annually submit to GSA a report on personal property furnished within the United States to non-Federal recipients and a report on property exchanged or sold for replacement purposes. This bulletin also provides updated guidance on reporting loans to non-Federal recipients and clarifies what property GSA is reporting on behalf of agencies. This Bulletin supersedes and cancels GSA Bulletin FMR B-27. GSA Bulletin FMR B-51 is available at www.gsa.gov/reference/gsa-bulletins.

Authority: 40 U.S.C. 503 and 529.

Jessica Salmoiraghi,
Associate Administrator, Office of Government-wide Policy.

[FR Doc. 2020-26633 Filed 12-4-20; 8:45 am]

BILLING CODE 6820-14-P